DEPARTMENT OF THE TREASURY

Office of Foreign Assets Control

Unblocking of Specially Designated Nationals and Blocked Persons Pursuant to Executive Order 12978

AGENCY: Office of Foreign Assets Control, Treasury.

ACTION: Notice.

SUMMARY: The Department of the Treasury's Office of Foreign Assets Control (“OFAC”) is publishing the names of 16 individuals whose property and interests in property have been unblocked pursuant to Executive Order 12978 of October 21, 1995, “Blocking Assets and Prohibiting Transactions With Significant Narcotics Traffickers”.

DATES: The unblocking and removal from the list of Specially Designated Nationals and Blocked Persons (“SDN List”) of the 16 individuals identified in this notice whose property and interests in property were blocked pursuant to Executive Order 12978 of October 21, 1995, is effective on August 20, 2014.

FOR FURTHER INFORMATION CONTACT: Assistant Director, Sanctions Compliance & Evaluation, Department of the Treasury, Office of Foreign Assets Control, Washington, DC 20220, Tel: (202) 622-2490.

SUPPLEMENTARY INFORMATION:

Electronic and Facsimile Availability

This document and additional information concerning OFAC are available from OFAC's Web site (www.treasury.gov/ofac) or via facsimile through a 24-hour fax-on demand service at (202) 622-0077.

Background

On October 21, 1995, the President, invoking the authority, inter alia, of the International Emergency Economic Powers Act (50 U.S.C. 1701-1706) (“IEEPA”), issued Executive Order 12978 (60 FR 54579, October 24, 1995) (the “Order”). In the Order, the President declared a national emergency to deal with the threat posed by significant foreign narcotics traffickers centered in Colombia and the harm that they cause in the United States and abroad.

Section 1 of the Order blocks, with certain exceptions, all property and interests in property that are in the United States, or that hereafter come within the United States or that are or hereafter come within the possession or control of United States persons, of: (1) The foreign persons listed in an Annex to the Order; (2) any foreign person determined by the Secretary of Treasury, in consultation with the Attorney General and the Secretary of State: (a) to play a significant role in international narcotics trafficking centered in Colombia; or (b) to materially assist in, or provide financial or technological support for or goods or services in support of, the narcotics trafficking activities of persons designated in or pursuant to the Order; and (3) persons determined by the Secretary of the Treasury, in consultation with the Attorney General and the Secretary of State, to be owned or controlled by, or to act for or on behalf of, persons designated pursuant to the Order.

On August 20, 2014, the Director of OFAC removed from the SDN List the 16 individuals listed below, whose property and interests in property were blocked pursuant to the Order:

Individuals

1. ARIZA CHAVEZ, Elder, c/o SUPERGEN LTDA., Bucaramanga, Colombia; DOB 22 Jul 1972; Cedula No. 79183205 (Colombia); Passport 79183205 (Colombia) (individual) [SDNT].

2. ASTAIZA TACUMA, Luz Marina, c/o GESTORA MERCANTIL S.A., Cali, Colombia; c/o COMPANIA DE FOMENTO MERCANTIL S.A., Cali, Colombia; c/o GEOPLASTICOS S.A., Cali, Colombia; DOB 10 Nov 1957; POB Cali, Valle, Colombia; Cedula No. 31271034 (Colombia); Passport 31271034 (Colombia) (individual) [SDNT].

3. BARCO RUIZ, Eduardo, c/o FOGENSA S.A., Bogota, Colombia; DOB 26 May 1945; Cedula No. 5562182 (Colombia); Passport 5562182 (Colombia) (individual) [SDNT].

4. BUENO RAMIREZ, Pompeyo, c/o ADMACOOP, Bogota, Colombia; c/o COMERCIALIZADORA DIGLO LTDA., Bogota, Colombia; c/o CREDISOL, Bogota, Colombia; c/o DROCARD S.A., Bogota, Colombia; c/o FARMACOOP, Bogota, Colombia; Cedula No. 13354747 (Colombia); Passport 13354747 (Colombia) (individual) [SDNT].

5. CASTRO SANCHEZ, Nelson, c/o ADMACOOP, Bogota, Colombia; c/o CODISA, Bogota, Colombia; c/o FARMACOOP, Bogota, Colombia; DOB 18 May 1953; Cedula No. 19308824 (Colombia); Passport 19308824 (Colombia) (individual) [SDNT].

6. CASTRO VERGARA, Sandra, c/o INVERSIONES EL PENON S.A., Cali, Colombia; DOB 24 Nov 1964; Cedula No. 31924082 (Colombia) (individual) [SDNT].

7. CHARRIS MORALES, Geny Maria (a.k.a. CHARRYS MORALES, Geny Maria), c/o REPRESENTACIONES Y DISTRIBUCIONES HUERTAS Y ASOCIADOS S.A., Bogota, Colombia; c/o COOPERATIVA MULTIACTIVA DE COLOMBIA FOMENTAMOS, Bogota, Colombia; c/o COOPIFARMA, Bucaramanga, Colombia; DOB 24 Feb 1961; Cedula No. 51606354 (Colombia); Passport 51606354 (Colombia) (individual) [SDNT].

8. FONSECA PARAMO, Luisa Fernanda, c/o REPRESENTACIONES Y DISTRIBUCIONES HUERTAS Y ASOCIADOS S.A., Bogota, Colombia; DOB 18 Nov 1978; Cedula No. 30400266 (Colombia); Passport 30400266 (Colombia) (individual) [SDNT].

9. IDARRAGA RODRIGUEZ, Mauricio, c/o ASPOIR DEL PACIFICO Y CIA. LTDA., Cali, Colombia; c/o FUNDASER, Cali, Colombia; DOB 16 Mar 1970; Cedula No. 94307887 (Colombia); Passport 94307887 (Colombia) (individual) [SDNT].

10. LOPEZ ARANGO, Gloria Ines (a.k.a. LOPEZ DE OSPINA, Gloria Ines), Carrera 1K No. 60-71, Cali, Colombia; c/o DISTRIBUIDORA MIGIL CALI S.A., Cali, Colombia; c/o INMOBILIARIA IMTASA LTDA., Cali, Colombia; c/o GENERAL DE NEGOCIOS Y ADMINISTRACION LTDA., Cali, Colombia; DOB 18 Mar 1952; Cedula No. 31237563 (Colombia) (individual) [SDNT].

11. MARQUEZ CANOVAS, Alberto, c/o SERVICIOS INMOBILIARIOS LTDA., Cali, Colombia; c/o INMOBILIARIA U.M.V. S.A., Cali, Colombia; DOB 27 Oct 1951; Cedula No. 14993019 (Colombia) (individual) [SDNT].

12. NUNEZ TOLBANOS, Vicente Antonio, c/o COLIMEX LTDA., Cali, Colombia; c/o CPV SISTEMAS GRAFICOS S.L., Madrid, Spain; c/o JAROMO INVERSIONES S.L., Madrid, Spain; c/o RODRIGUEZ Y TOLBANOS S.A., Alcala de Henares, Madrid, Spain; N.I.E. 8966981-V (Spain) (individual) [SDNT].

13. OROZCO NINO, Carlos Alberto, c/o COMERCIALIZADORA INTERTEL S.A., Cali, Colombia; c/o PROSALUD S.A. Y BIENESTAR S.A., Cali, Colombia; c/o RENTAR INMOBILIARIA S.A., Cali, Colombia; DOB 16 Oct 1967; Cedula No. 16745992 (Colombia); Passport 16745992 (Colombia) (individual) [SDNT].

14. PEDRAZA GARZON, Fernando, c/o COOPERATIVA MULTIACTIVA DE COLOMBIA FOMENTAMOS, Bogota, Colombia; DOB 09 Nov 1962; Cedula No. 79283141 (Colombia); Passport 79283141 (Colombia) (individual) [SDNT].

15. QUINTERO SALAMANDO, Gabriela Elvira, c/o CONTACTEL COMUNICACIONES S.A., Cali, Colombia; c/o PROSPECTIVA E.U., Cali, Colombia; DOB 10 Sep 1963; Cedula No. 31406077 (Colombia); Passport 31406077 (Colombia) (individual) [SDNT].

16. VERA ROSAS, Gonzalo, c/o FARMA 3.000 LIMITADA, Barranquilla, Colombia; DOB 19 Sep 1968; Cedula No. 79136661 (Colombia); Passport 79136661 (Colombia) (individual) [SDNT].

Dated: August 20, 2014.
Barbara C. Hammerle,
Acting Director, Office of Foreign Assets Control.

[FR Doc. 2014-20606 Filed 8-28-14; 8:45 am]

BILLING CODE 4810-AL-P